ENVIRONMENTAL PROTECTION AGENCY

[EPA-HQ-OW-2014-0170; FRL—9931-67-OW]

RIN 2040-ZA24

Final 2014 Effluent Guidelines Program Plan and 2014 Annual Effluent Guidelines Review Report

AGENCY: Environmental Protection Agency (EPA).

ACTION: Notice of availability.

SUMMARY: This notice announces the availability of the Environmental Protection Agency's (EPA) Final 2014 Effluent Guidelines Program Plan and EPA's 2014 Annual Effluent Guidelines Review Report. Section 304(m) of the Clean Water Act requires EPA to biennially publish a plan for new and revised effluent guidelines, after public notice and comment. The Plan identifies any new or existing industrial categories selected for effluent guidelines and provides a schedule. EPA typically publishes a preliminary plan upon which the public is invited to comment, and then publishes a final plan thereafter. EPA published the Preliminary 2014 Plan on September 16, 2014, and received public comment on it.

FOR FURTHER INFORMATION CONTACT: Mr. William F. Swietlik, Engineering and Analysis Division, Office of Water, 4303T, U.S. Environmental Protection Agency, 1200 Pennsylvania Avenue NW., Washington, DC., 20460; telephone number: (202) 566-1129; fax number: (202) 566-1053; email address: swietlik.william@epa.gov

SUPPLEMENTARY INFORMATION:

I. General Information

A. Supporting Documents—Key documents providing additional information about EPA's 2014 annual review and the Final 2014 Plan include the 2014 Effluent Guidelines Review Report and the Final 2014 Effluent Guidelines Program Plan.

B. How can I get copies of these documents and other related information?

1. Docket. EPA has established official public dockets for these actions under Docket ID No. EPA-HQ-OW-2014-0170. The official public docket is the collection of materials that is available for public viewing at the Water Docket in the EPA Docket Center, (EPA/DC) EPA West, Room 3334, 1301Constitution Ave. NW., Washington, DC 20460.

2. Electronic Access. You can access this Federal Register document electronically through the United States government online source for Federal regulations at http://www.regulations.gov.

3. Internet access. Copies of the supporting documents are available at http://water.epa.gov/lawsregs/lawsguidance/cwa/304m/index.cfm

II. How Is This Document Organized?

The outline of this notice follows.

A. Legal Authority

B. Summary of the Final 2014 Effluent Guidelines Program Plan

A. Legal Authority

This notice is published under the authority of the CWA, 33 U.S.C. 1251, et seq., and in particular sections 301(d), 304(b), 304(g), 304(m), 306, 307(b) and 308 of the Act, 33 U.S.C. 1311(d), 1314(b), 1314(g), 1314(m), 1316, 1317(b), and 1318.

B. Summary of the Final 2014 Effluent Guidelines Program Plan

EPA prepared the Final 2014 Effluent Guidelines Program Plan (the Plan) pursuant to Clean Water Act section 304(m). The Plan provides a summary of EPA's review of effluent guidelines and pretreatment standards, consistent with CWA sections 301(d), 304(b), 304(g), 304(m), and 307(b). It includes EPA's evaluation of indirect discharge categories that do not have categorical pretreatment standards for the purpose of identifying potential new categories for which pretreatment standards under CWA section 307(b) might be warranted. From these reviews, the Plan identifies any new or existing industrial categories selected for effluent guidelines, and provides a schedule. In addition, the Plan presents any new or existing categories of industry selected for further review and analysis. The Final 2014 Plan and the 2014 Annual Review Report can be found at http://water.epa.gov/lawsregs/lawsguidance/cwa/304m/index.cfm

Dated: July 24, 2015.
Kenneth J. Kopocis,
Deputy Assistant Administrator for Water.

[FR Doc. 2015-18877 Filed 8-3-15; 8:45 am]

BILLING CODE 6560-50-P